DEPARTMENT OF ENERGY

Federal Energy Regulatory Commission

[Docket No. IS17-522-000]

Colonial Pipeline Company; Notice of Technical Conference

The Commission's September 7, 2017 order in the above-captioned proceeding ¹ directed that a technical conference be held to address the effect of the tariff changes proposed by Colonial Pipeline Company in its June 23, 2017 filing in this docket.

¹ Colonial Pipeline Company, 160 FERC ¶ 61,051 (2017).

Take notice that a technical conference will be held on Wednesday, October 25, 2017 at 9:00 a.m., in a room to be designated at the offices of the Federal Energy Regulatory Commission, 888 First Street NE., Washington, DC 20426.

FERC conferences are accessible under section 508 of the Rehabilitation Act of 1973. For accessibility accommodations please send an email to accessibility@ferc.gov or call toll free (866) 208-3372 (voice) or (202) 502-8659 (TTY), or send a fax to (202) 208-2106 with the required accommodations.

All interested persons and staff are permitted to attend. For further information please contact David Faerberg at (202) 502-8275 or email David Faerberg at David.Faerberg@ferc.gov.

Dated: September 29, 2017.
Nathaniel J. Davis, Sr.,
Deputy Secretary.

[FR Doc. 2017-21873 Filed 10-10-17; 8:45 am]

BILLING CODE 6717-01-P